DEPARTMENT OF THE INTERIOR

Bureau of Land Management

[OR-958-1430-ET; HAG 01-0032; OR-23735]

Proposed Extension of Withdrawal and Opportunity for Public Meeting; Oregon

AGENCY: Bureau of Land Management, Interior.

ACTION: Notice.

SUMMARY: The Bureau of Land Management (BLM) proposes to extend Public Land Order (PLO) 5980 for a 20 year period. This order withdrew public land from surface entry and mining, to protect the McDermitt Administrative Site and McDermitt Airport Protective Zone. The land has been and will remain open to mineral leasing. This notice also gives an opportunity to comment on the proposed action and to request a public meeting.

EFFECTIVE DATE: Comments and requests for a public meeting must be received by April 5, 2001.

ADDRESSES: Comments and meetings requests should be sent to the Oregon/Washington State Director, BLM, P.O. Box 2965, Portland, Oregon 97208-2965.

FOR FURTHER INFORMATION CONTACT: Charles R. Roy, BLM Oregon/Washington State Office, 503-952-6189.

SUPPLEMENTARY INFORMATION: On December 10, 1999, the Bureau of Land Management, Vale District, requested that PLO 5980 be extended for an additional 20 year period. This withdrawal was made to protect the McDermitt Administrative Site and McDermtt Airport Protective Zone, and will expire on September 1, 2001.

The withdrawal comprises approximately 541.18 acres of public land in Malheur County. The land is located in Sections 12 and 13, T. 41 S., R. 42 E., and Sections 7 and 18, T. 41 S., R. 43 E., Willamette Principal Meridian and is described in PLO 5980. A complete description can be provided by the Oregon State Office at the address shown above.

For a period of 90 days from the date of publication of this notice, all persons who wish to submit comments, suggestions, or objections in connection with the proposed extension may present their views in writing to the Oregon/Washington State Director of the Bureau of Land Management.

Notice is hereby given that an opportunity for a public meeting is afforded in connection with this proposed extension. Any interested persons who desire a public meeting regarding the proposed extension should submit a written request to the Oregon/Washington State Director of the Bureau of Land Management within 90 days from the date of publication of this notice. If the authorized officer determines that a public meeting will be held, a notice of time and place will be published in the Federal Register at least 30 days prior to the scheduled date of the meeting.

The extension will be processed in accordance with the regulations set forth in 43 CFR 2310.4.

Robert D. DeViney, Jr.,
Chief, Branch of Realty and Records Services.

[FR Doc. 01-388 Filed 1-4-01; 8:45 am]

BILLING CODE 4310-33-P